DEPARTMENT OF AGRICULTURE

Forest Service

San Juan National Forest; Colorado; Missionary Ridge Burned Area Timber Salvage Project

AGENCY: Forest Service, USDA.

ACTION: Notice of withdrawal of decision.

SUMMARY: Forest Supervisor, Mark Stiles has withdrawn the decision (dated July 9, 2003) to implement the Missionary Ridge Burned Area Timber Salvage project, based on recent court actions regarding analysis of wildlife management indicator species (MIS).

SUPPLEMENTARY INFORMATION: The original Notice of Intent for this project was published in the Federal Register on September 26, 2002.

FOR FURTHER INFORMATION CONTACT: Ann Bond, San Juan Public Lands Office, 15 Burnett Court, Durango, CO 81301, or abond@fs.fed.us

Dated: September 2, 2004.
Mark W. Stiles,
Forest Supervisor/Center Manager.

[FR Doc. 04-20529 Filed 9-9-04; 8:45 am]

BILLING CODE 3410-11-P